DEPARTMENT OF ENERGY

Federal Energy Regulatory Commission

[Docket No. RP03-152-000]

Overthrust Pipeline Company; Notice of Tariff Filing

December 4, 2002.

Take notice that on November 29, 2002, Overthrust Pipeline Company (Overthrust) tendered for filing as part of its FERC Gas Tariff, First Revised Volume No. 1-A, the following tariff sheets, to be effective January 1, 2003:

Sixth Revised Sheet No. 54

Fifth Revised Sheet No. 55

First Revised Sheet No. 78K

Alternate First Revised Sheet No. 78K

Overthrust states that the filing is being made in compliance with the Commission's Order on Remand dated October 31, 2002, in Docket No. RM98-10-011.

Overthrust states that on October 31, 2002, the Commission issued an Order on Remand (October 31 Order) requiring all pipelines, that provide segmentation on their systems, to file revised tariff provisions to expressly permit segmented transactions consisting of forwardhauls, up to contract demand, and backhauls, up to contract demand, to the same point at the same time. In addition, Overthrust indicates that the October 31 Order also removed the five-year right of first refusal term matching cap when shippers exercise their right of first refusal. Overthrust notes that this filing is being tendered in compliance with the Commission's October 31 Order.

Overthrust states that a copy of this filing has been served upon its customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Magalie R. Salas,
Secretary.

[FR Doc. 02-31268 Filed 12-11-02; 8:45 am]

BILLING CODE 6717-01-P